OFFICE OF SPECIAL COUNSEL

5 CFR Part 1800

Correction to Statutory Citation

AGENCY: U.S. Office of Special Counsel (OSC)

ACTION: Final rule; technical amendment.

SUMMARY: The U.S. Office of Special Counsel is issuing this technical amendment to correct a statutory citation in its regulation governing the filing of complaints of prohibited personnel practices and other prohibited activities.

DATES: This rule is effective April 30, 2025.

FOR FURTHER INFORMATION CONTACT: Barbara Wheeler Jones, Chief, Case Review Division, U.S. Office of Special Counsel, by telephone at (202) 804-7000.

SUPPLEMENTARY INFORMATION: This amendment is directed to the public in general, particularly current and former federal employees and applicants for federal employment who may seek to file complaints alleging prohibited personnel practices or other violations of civil service law, rule, or regulation by a federal agency.

OSC is correcting an erroneous statutory reference in 5 CFR 1800.2(d) concerning alternative dispute resolution. The current regulation incorrectly cites the Administrative Dispute Resolution Act of 1998, 5 U.S.C. 571-573. The correct citation is the Administrative Dispute Resolution Act of 1996, 5 U.S.C. 571-574.

This technical amendment is issued under the authority of 5 U.S.C. 1212(e), which authorizes the Special Counsel to publish regulations in the Federal Register. Pursuant to 5 U.S.C. 553(b)(3)(B) of the Administrative Procedure Act, OSC finds good cause to waive notice and public comment requirements. The agency has determined that this rulemaking is non-substantive, purely technical in nature, and that delay in correction would be contrary to the public interest, as the public benefits from the prompt correction of an incorrect citation.

This rule is also effective upon publication in accordance with 5 U.S.C. 808(2) of the Congressional Review Act, which allows rules to take effect immediately when an agency finds good cause. OSC finds that good cause exists for immediate effectiveness based on the reasons stated above.

List of Subjects in 5 CFR Part 1800

Administrative practice and procedure, Government employees.

For the reasons stated in the preamble, OSC amends 5 CFR part 1800 as follows:

PART 1800—FILING OF COMPLAINTS AND ALLEGATIONS

1. The authority citation for part 1800 continues to read as follows:

Authority: 5 U.S.C. 301, 1212(e).

§ 1800.2 [Amended]

2. In § 1800.2, in paragraph (d), remove the citation “Administrative Dispute Resolution Act of 1998, 5 U.S.C. 571-573” and add in its place “Administrative Dispute Resolution Act of 1996, 5 U.S.C. 571-574”.

Dated: April 25, 2025.
Barbara Wheeler Jones,
Chief, Case Review Division.

[FR Doc. 2025-07463 Filed 4-29-25; 8:45 am]

BILLING CODE P